DEPARTMENT OF THE INTERIOR

Fish and Wildlife Service

[FWS-R2-ES-2009-N273; 20124-1113-0000-C2]

Endangered and Threatened Wildlife and Plants; Draft Yuma Clapper Rail (Rallus longirostris yumanensis) Recovery Plan, First Revision

AGENCY: Fish and Wildlife Service, Interior.

ACTION: Notice of document availability for public review: draft revised recovery plan.

SUMMARY: We, the U.S. Fish and Wildlife Service (Service), announce the availability of the Draft Yuma Clapper Rail (Rallus longirostris yumanensis) Recovery Plan, First Revision under the Endangered Species Act of 1973, as amended (Act). The species currently inhabits the mainstem Colorado River in Arizona, California, and Nevada; the Virgin River in Arizona, Nevada, and Utah; the Gila River in Arizona; and the Salton Sea in California. The Service solicits review and comment from the public on this draft revised recovery plan. The Service will also accept any new information on the status of the Yuma clapper rail throughout its range to assist in finalizing the revised recovery plan.

DATES: To ensure consideration, we must receive any comments no later than April 12, 2010.

ADDRESSES: Persons wishing to review the draft revised recovery plan can obtain a paper or electronic copy from the Arizona Ecological Services Field Office, U.S. Fish and Wildlife Service, 2321 W. Royal Palm Road, Suite 103, Phoenix, AZ 85021-4951; by phone at (602) 242-0210 extension 236; by e-mail at ycrrecovery@fws.gov; or on our Web site at www.fws.gov/southwest/es/arizona/. Written comments and materials on the draft revised recovery plan may be mailed to “Field Supervisor” at the address above or e-mailed to ycrrecovery@fws.gov.

FOR FURTHER INFORMATION CONTACT: Lesley Fitzpatrick (see ADDRESSES).

SUPPLEMENTARY INFORMATION:

Background

The Endangered Species Act of 1973 (Act), as amended (16 U.S.C. 1531 et seq.), requires the development of recovery plans for listed species, unless such a plan would not promote the conservation of a particular species. Recovery plans help guide the recovery effort by describing actions considered necessary for the conservation of the species, and estimating time and costs for implementing the measures needed for recovery. A recovery plan was originally completed for Yuma clapper rail in 1983, but the recommendations contained in that plan are outdated given the species' current status.

Section 4(f) of the Act requires that we provide public notice and an opportunity for public review and comment during recovery plan development. The Service will consider all information presented during a public comment period prior to approval of each new or revised recovery plan. The Service and other Federal agencies will also take these comments into account in the course of implementing recovery actions. In fulfillment of this requirement, we are making this draft first revision of the recovery plan for Yuma clapper rail available for a 60-day public comment period.

The document submitted for review is the first revision of the recovery plan for the Yuma clapper rail. It was listed as an endangered species in the United States on March 11, 1967 (32 FR 4001). It was not included on the list of foreign species established under the Endangered Species Conservation Act, so is not listed throughout its historical range in Mexico. Critical habitat has not been designated. The primary threats to the Yuma clapper rail are habitat loss and degradation due to changes in historical hydrographs, channelization, and diversion of river flows for agricultural and municipal purposes.

The draft revised recovery plan includes scientific information about the species and provides criteria and actions needed to downlist or delist the species. Downlisting of the species may be considered when annual surveys document a stable or increasing population trend over five consecutive years, habitat management plans are in place for all important Federal and state-owned habitat areas, and long-term contracts for water supplies at Sonny Bono Salton Sea National Wildlife Refuge and Imperial State Wildlife Area in California are in place. Delisting of the species may be considered when annual surveys document an additional five consecutive years of a stable or increasing population trend; the amount of habitat needed to support the desired minimum population size in the United States is established and protected, and management plans are in place for that habitat; an assessment of the risks of selenium to the species is completed and protective measures implemented if needed; and a secure water supply for the Cienega de Santa Clara in Mexico is established. Recovery actions designed to achieve these criteria are included in the draft revised recovery plan and include population and habitat monitoring and evaluation, directed research on habitat and threats, efforts to obtain secure water supplies for important habitats, and cooperation between interested parties in the United States and Mexico.

The draft Yuma Clapper Rail Recovery Plan, First Revision, is being submitted for review to all interested parties. After consideration of comments received during the public comment period, the revised recovery plan will be submitted for final approval.

Request for Public Comments

We are accepting written comments and information during this comment period on the revised draft recovery plan. All comments received by the date specified above will be considered prior to approval of the final recovery plan. Comments and materials we receive will be available for public inspection, by appointment, during normal business hours at the Arizona Ecological Services Field Office in Phoenix (see ADDRESSES).

Before including your address, phone number, e-mail address, or other personal identifying information in your comment, you should be aware that your entire comment, including your personal identifying information, may be made publically available at any time. While you can ask us in your comment to withhold your personal identifying information from public review, we cannot guarantee that we will be able to do so.

Authority: The authority for this action is section 4(f) of the Endangered Species Act, 16 U.S.C. 1533 (f).

Dated: November 20, 2009.
Brian Millsap,
Acting Regional Director, Region 2.

[FR Doc. 2010-2921 Filed 2-9-10; 8:45 am]

BILLING CODE 4310-55-P